DEPARTMENT OF TRANSPORTATION

Coast Guard

[USCG 2001-9009]

Information Collection Under Review by the Office of Management and Budget (OMB): 2115-0073

AGENCY: Coast Guard, DOT.

ACTION: Request for comments.

SUMMARY: In compliance with the Paperwork Reduction Act of 1995, this request for comments announces that the Coast Guard has forwarded one Information Collection Report (ICR) abstracted below to OMB for review and comment. Our ICR describes the information we seek to collect from the public. Review and comment by OMB ensure that we impose only paperwork burdens commensurate with our performance of duties.

DATES: Please submit comments on or before July 13, 2001.

ADDRESSES: Please send comments to (1) the Docket Management System (DMS), U.S. Department of Transportation (DOT), room PL-401, 400 Seventh Street S.W., Washington, DC 20590-0001; and (2) the Office of Information and Regulatory Affairs (OIRA), Office of Management and Budget (OMB), 725 17th Street N.W., Washington, DC 20503, to the attention of the Desk Officer for the USCG.

Copies of the complete ICR is available for inspection and copying in public docket USCG 2001-9009 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OMB. The Coast Guard has already published [66 FR 15519 (March 19, 2001)] the 60-day notice required by OMB. That notice elicited no comments.

Request for Comments

The Coast Guard invites comments on the proposed collection of information to determine whether the collection is necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collection on respondents, including the use of automated collection techniques or other forms of information technology.

Comments, to DMS or OIRA, must contain the OMB Control Number of the ICR addressed. Comments to DMS must contain the docket number of this request, USCG 2001-9009. Comments to OIRA are best assured of having their full effect if OIRA receives them 30 or fewer days after the publication of this request.

Information Collection Requests

1. Title: Alternative Compliance for International and Inland Navigation Rules—33 CFR parts 81 and 89.

OMB Control Number: 2115-0073.

Type of Request: Extension of a currently approved collection.

Affected Public: Owners, operators, builders, and agents of vessels.

Forms: This collection of information does not require the public to fill out Coast Guard forms, but does require operators, owners, builders, or agents of a vessel of special construction to apply by letter for approval that alternative compliance is justified.

Abstract: The information collected provides an opportunity for the owner, operator, builder, or agent of a unique vessel to present her or his reasons why the vessel cannot comply with existing International or Inland Navigation Rules and how it might achieve alternative compliance. If one is appropriate, the Coast Guard issues a Certificate of Alternative Compliance.

Annual Estimated Burden Hours: The estimated burden is 153 hours a year.

Dated: June 4, 2001.
V.S. Crea,
Rear Admiral, U.S. Coast Guard, Director of Information and Technology.

[FR Doc. 01-14818 Filed 6-12-01; 8:45 am]

BILLING CODE 4910-15-P